DEPARTMENT OF TRANSPORTATION

Federal Aviation Administration

14 CFR Part 135

[Docket No. FAA-2010-0982; Amdt. No. 135-138]

RIN 2120-AJ53

Helicopter Air Ambulance, Commercial Helicopter, and Part 91 Helicopter Operations; Technical Amendment

AGENCY: Federal Aviation Administration, DOT.

ACTION: Final rule; technical amendment.

SUMMARY: The FAA is correcting a final rule published on February 21, 2014. In that rule, the FAA amended its regulations to improve safety in helicopter air ambulance and commercial helicopter operations. This document removes an incorrect cross-reference and makes corresponding revisions.

DATES: Effective January 10, 2018.

FOR FURTHER INFORMATION CONTACT: Brian Verna, Aircraft Maintenance Division, Avionics Branch, AFS-360, Federal Aviation Administration, 800 Independence Avenue SW, Washington, DC 20591; telephone (202) 267-1710; email brian.verna@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the rule.

This document is correcting an error in 14 CFR 135.168. These corrections will not impose any additional restrictions on the persons affected by these regulations. Furthermore, any additional delay in making the regulations correct would be contrary to the public interest. Accordingly, the FAA finds that (i) public comment on these standards prior to promulgation is unnecessary, and (ii) good cause exists to make this rule effective in less than 30 days.

Background

On February 21, 2014, the FAA published a final rule entitled, “Helicopter Air Ambulance, Commercial Helicopter, and Part 91 Helicopter Operations” (79 FR 9932). In that final rule the FAA created provisions directed primarily toward helicopter air ambulance operations and all commercial helicopter operations conducted under part 135.

The rule added § 135.168(c) which states, “[t]he equipment required by this section must be maintained in accordance with § 135.419.” Section 135.419 outlines inspection, not maintenance, requirements making the cross reference to § 135.419 incorrect.

Technical Amendment

This technical amendment addresses this incorrect reference to inspection requirements. Maintenance and inspection requirements for part 135 operators are currently described in part 135 Subpart J. Accordingly, the FAA is removing the current text of § 135.168 (c) to avoid potential confusion from redundant regulatory text.

This technical amendment also removes the reference to § 135.168(c) from § 135.168(b). Finally, the FAA removes the effective date for § 135.168(b) because that date has passed, and the paragraph currently is effective.

Executive Order Determinations

Executive Order 13771, Reducing Regulation and Controlling Regulatory Costs

This technical amendment is not an E.O. 13771 regulatory action because this technical amendment is not significant under E.O. 12866.

List of Subjects in 14 CFR Part 135

Air taxis, Aircraft, Aviation safety.

The Amendment

In consideration of the foregoing, the Federal Aviation Administration amends chapter I of title 14, Code of Federal Regulations as follows:

PART 135—OPERATING REQUIREMENTS: COMMUTER AND ON-DEMAND OPERATIONS AND RULES GOVERNING PERSONS ON BOARD SUCH AIRCRAFT

1. The authority citation for part 135 continues to read as follows:

Authority: 49 U.S.C. 106(f), 106(g), 41706, 40113, 44701-44702, 44705, 44709, 44711-44713, 44715-44717, 44722, 44730, 45101-45105; Pub. L. 112-95, 126 Stat. 58 (49 U.S.C. 44730).

2. Amend § 135.168 by revising paragraph (b) introductory text and removing and reserving paragraph (c).

The revision reads as follows:

§ 135.168. Emergency equipment. Overwater rotorcraft operations.

* * * * *

(b) Required equipment. Except when authorized by the certificate holder's operations specifications, or when necessary only for takeoff or landing, no person may operate a rotorcraft beyond autorotational distance from the shoreline unless it carries:

* * * * *

Issued under authority of 49 U.S.C. 106(f), 106(g), 44701(a), and 44730 in Washington, DC.
Lirio Liu,
Director, Office of Rulemaking.

[FR Doc. 2018-00285 Filed 1-9-18; 8:45 am]

BILLING CODE 4910-13-P